DEPARTMENT OF ENERGY

Federal Energy Regulatory Commission

Combined Notice of Filings #2

Take notice that the Commission received the following electric corporate filings:

Docket Numbers: EC18-76-000.

Applicants: Entergy Arkansas, Inc., Entergy Mississippi, Inc.

Description: Joint Application of Entergy Arkansas, Inc., et al. for Approval under Section 203 of the Federal Power Act.

Filed Date: 3/27/18.

Accession Number: 20180327-5079.

Comments Due: 5 p.m. ET 4/17/18.

Take notice that the Commission received the following electric rate filings:

Docket Numbers: ER18-406-001.

Applicants: Brunner Island, LLC.

Description: Compliance filing: Reactive Service Rate Schedule Compliance Filing to be effective 2/25/2018.

Filed Date: 3/27/18.

Accession Number: 20180327-5075.

Comments Due: 5 p.m. ET 4/17/18.

Docket Numbers: ER18-564-001.

Applicants: South Central MCN LLC.

Description: Compliance filing: Wholesale Distribution ADIT Deficiency Response to be effective 1/1/2018.

Filed Date: 3/27/18.

Accession Number: 20180327-5158.

Comments Due: 5 p.m. ET 4/17/18.

Docket Numbers: ER18-1181-000.

Applicants: San Diego Gas & Electric, Energia Sierra Juarez 2 U.S., LLC.

Description: Joint Application of San Diego Gas & Electric Company, et al for Approval of Affiliate Transaction Pursuant to Section 205 of the Federal Power Act.

Filed Date: 3/26/18.

Accession Number: 20180326-5267.

Comments Due: 5 p.m. ET 4/16/18.

Docket Numbers: ER18-1182-000.

Applicants: System Energy Resources, Inc.

Description: § 205(d) Rate Filing: UPSA Amendment to Reflect Tax Cuts and Jobs Act of 2017 to be effective 6/1/2018.

Filed Date: 3/27/18.

Accession Number: 20180327-5074.

Comments Due: 5 p.m. ET 4/17/18.

Docket Numbers: ER18-1183-000.

Applicants: Delta Solar Power I, LLC.

Description: Baseline eTariff Filing: Initial Market Based Rate Tariff to be effective 5/21/2018.

Filed Date: 3/22/18.

Accession Number: 20180322-5321.

Comments Due: 5 p.m. ET 4/12/18.

Docket Numbers: ER18-1184-000.

Applicants: Delta Solar Power II, LLC.

Description: Baseline eTariff Filing: Initial Market Based Rate Tariff to be effective 5/21/2018.

Filed Date: 3/22/18.

Accession Number: 20180322-5322.

Comments Due: 5 p.m. ET 4/12/18.

Docket Numbers: ER18-1185-000.

Applicants: Duke Energy Progress, LLC.

Description: § 205(d) Rate Filing: DEP-PJM 2nd Amended and Restated JOA Concurrence to be effective 4/1/2018.

Filed Date: 3/27/18.

Accession Number: 20180327-5099.

Comments Due: 5 p.m. ET 4/17/18.

Docket Numbers: ER18-1186-000.

Applicants: Turtle Creek Wind Farm LLC.

Description: Baseline eTariff Filing: Market Based Rate Application to be effective 5/27/2018.

Filed Date: 3/27/18.

Accession Number: 20180327-5101.

Comments Due: 5 p.m. ET 4/17/18.

Docket Numbers: ER18-1187-000.

Applicants: Eagle's View Partners, Ltd.

Description: Baseline eTariff Filing: Eagles View MBR Application to be effective 3/28/2018.

Filed Date: 3/27/18.

Accession Number: 20180327-5102.

Comments Due: 5 p.m. ET 4/17/18.

Docket Numbers: ER18-1188-000.

Applicants: Prairie Queen Wind Farm LLC.

Description: Baseline eTariff Filing: Market Based Rate Application to be effective 5/27/2018.

Filed Date: 3/27/18.

Accession Number: 20180327-5103.

Comments Due: 5 p.m. ET 4/17/18.

Docket Numbers: ER18-1189-000.

Applicants: Meadow Lake Wind Farm VI LLC.

Description: Baseline eTariff Filing: Market Based Rate Application to be effective 5/27/2018.

Filed Date: 3/27/18.

Accession Number: 20180327-5110.

Comments Due: 5 p.m. ET 4/17/18.

Docket Numbers: ER18-1190-000.

Applicants: Entergy Arkansas, Inc.

Description: § 205(d) Rate Filing: Amended Distribution Agreement to Reflect Tax Cuts and Jobs Act of 2017 to be effective 6/1/2018.

Filed Date: 3/27/18.

Accession Number: 20180327-5111.

Comments Due: 5 p.m. ET 4/17/18.

Docket Numbers: ER18-1191-000.

Applicants: Wisconsin Public Service Corporation.

Description: § 205(d) Rate Filing: Notice of Termination for SA 43 to be effective 3/1/2018.

Filed Date: 3/27/18.

Accession Number: 20180327-5136.

Comments Due: 5 p.m. ET 4/17/18.

Docket Numbers: ER18-1192-000.

Applicants: The Connecticut Light and Power Company.

Description: § 205(d) Rate Filing: Interconnection Agreement with Fusion Solar Center, LLC to be effective 3/27/2018.

Filed Date: 3/27/18.

Accession Number: 20180327-5137.

Comments Due: 5 p.m. ET 4/17/18.

Docket Numbers: ER18-1193-000.

Applicants: Wisconsin Electric Power Company.

Description: § 205(d) Rate Filing: Notice of Termination for RS 106 to be effective 3/1/2018.

Filed Date: 3/27/18.

Accession Number: 20180327-5139.

Comments Due: 5 p.m. ET 4/17/18.

Docket Numbers: ER18-1194-000.

Applicants: CSOLAR IV West, LLC.

Description: § 205(d) Rate Filing: Market-Based Rate Tariff Revisions to be effective 3/28/2018.

Filed Date: 3/27/18.

Accession Number: 20180327-5157.

Comments Due: 5 p.m. ET 4/17/18.

Take notice that the Commission received the following electric securities filings:

Docket Numbers: ES18-24-000.

Applicants: Midcontinent Independent System Operator, Inc.

Description: Application of Midcontinent Independent System Operator, Inc. under Section 204 of the Federal Power Act for Authorization to Issue Securities.

Filed Date: 3/26/18.

Accession Number: 20180326-5266.

Comments Due: 5 p.m. ET 4/16/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 27, 2018.
Nathaniel J. Davis, Sr.,
Deputy Secretary.

[FR Doc. 2018-06625 Filed 3-30-18; 8:45 am]

BILLING CODE 6717-01-P